DEPARTMENT OF DEFENSE

Department of the Navy

Notice of Revised Record of Decision for Hawaii Range Complex

AGENCY: Department of the Navy, DoD.

ACTION: Notice.

SUMMARY: The Department of the Navy (Navy) announces its decision to revise the Record of Decision (ROD) issued on June 26, 2008, and published on July 7, 2008 (73 FR 38424) on the Final Environmental Impact Statement (EIS)/Overseas Environmental Impact Statement (OEIS) for the Hawaii Range Complex (HRC). These revisions address the authorizations recently issued by the National Marine Fisheries Service (NMFS) in December 2008 and January 2009 under the Marine Mammal Protection Act (MMPA) and the Endangered Species Act (ESA) for the incidental harassment of marine mammals resulting from Navy training and Department of Defense (DoD) research, development, testing, and evaluation (RDT&E) activities conducted within the HRC for the proposed action presented in Alternative 3.

The Revised ROD is effective February 26, 2009. Except as discussed in the Revised ROD, all other provisions of the June 26, 2008 ROD remain in full force and effect. Implementation of the preferred alternative, initiated in June 2008 will continue. Because the Navy is required by section 5062 of Title 10 of the United States Code to organize, train, equip, and maintain combat-ready forces, ongoing training and RDT&E activities within the HRC will continue at current levels in the event that the proposed action is not implemented.

SUPPLEMENTARY INFORMATION: The Revised ROD has been distributed to all those individuals who requested a copy of the Final EIS/OEIS and agencies and organizations that received a copy of the Final EIS/OEIS. The full text of the Revised ROD is available for public viewing at http://www.govsupport.us/navynepahawaii/downloads.aspx. Single copies of the Revised ROD will be made available upon request by contacting the Public Affairs Officer, Pacific Missile Range Facility, Attn: HRC EIS/OEIS REVISED ROD, P.O. Box 128, Kekaha, Hawaii 96752-0128; e-mail: feis_hrc@govsupport.us; or calling the Public Affairs Officer at telephone: 866-767-3347.

Dated: March 4, 2009.
A.M. Vallandingham,
Lieutenant Commander, Judge Advocate Generals Corps, U.S. Navy, Federal Register Liaison Officer.

[FR Doc. E9-5026 Filed 3-9-09; 8:45 am]

BILLING CODE 3810-FF-P